DEPARTMENT OF HOMELAND SECURITY

U.S. Customs and Border Protection

Delay of Effective Date for the Automated Commercial Environment (ACE) Becoming the Sole CBP-Authorized Electronic Data Interchange (EDI) System for Processing Electronic Drawback and Duty Deferral Entry and Entry Summary Filings

AGENCY: U.S. Customs and Border Protection, Department of Homeland Security.

ACTION: Delay of effective date.

SUMMARY: On August 30, 2016, U.S. Customs and Border Protection (CBP) published a notice in the Federal Register announcing plans to make the Automated Commercial Environment (ACE) the sole electronic data interchange (EDI) system authorized by the Commissioner of CBP for processing electronic drawback and duty deferral entry and entry summary filings. This notice announces that the effective date for that transition has been delayed until further notice.

DATES: The effective date is delayed until further notice. CBP will publish a subsequent notice announcing the date when ACE will become the sole CBP-authorized EDI system for processing electronic drawback and duty deferral entry and entry summary filings, and ACS will no longer be a CBP-authorized EDI system for purposes of processing these filings.

FOR FURTHER INFORMATION CONTACT: Questions related to this notice may be emailed to ASKACE@cbp.dhs.gov with the subject line identifier reading “ACS to ACE Drawback and Duty Deferral Entry and Entry Summary Filings transition.”

SUPPLEMENTARY INFORMATION: On August 30, 2016, U.S. Customs and Border Protection (CBP) published a notice in the Federal Register (81 FR 59644) announcing plans to make the Automated Commercial Environment (ACE) the sole electronic data interchange (EDI) system authorized by the Commissioner of CBP for processing electronic drawback and duty deferral entry and entry summary filings, with an effective date of October 1, 2016. The document also announced that the Automated Commercial System (ACS) would no longer be a CBP-authorized EDI system for purposes of processing these electronic filings. Finally, the notice announced a name change for the ACE filing code for duty deferral and the creation of a new ACE filing code for all electronic drawback filings, replacing the six distinct drawback codes previously filed in ACS. The effective date for these changes was subsequently delayed. On June 8, 2017, CBP published a notice in the Federal Register (82 FR 26698) announcing that the changes announced in the August 30, 2016 Federal Register notice would become effective on July 8, 2017.

This notice announces that the effective date announced in the June 8, 2017 Federal Register notice is delayed until further notice. CBP will publish a subsequent notice announcing the effective date for these changes.

Dated: June 26, 2017.
Brenda B. Smith,
Executive Assistant Commissioner, Office of Trade.

[FR Doc. 2017-13827 Filed 6-29-17; 8:45 am]

BILLING CODE 9111-14-P